FEDERAL RESERVE SYSTEM

Change in Bank Control Notices; Formations of, Acquisitions by, and Mergers of Bank Holding Companies; Correction

This notice corrects a notice (FR Doc. 2012-19772) published on page 48156 of the issue for Monday, August 13, 2012.

Under the Federal Reserve Bank of Minneapolis heading, the entry for MVC, Petroleum Inc., and William Coleman, both of Denver, Colorado; Eugene Nicholas, Cando, North Dakota; Timothy Dodd and Bradley Fey, both of Bismarck, North Dakota; Jeffrey Topp, Grace City, North Dakota; Janet Topp, Grace City, North Dakota; and Roger Kenner, Leeds, North Dakota; as a group acting in concert, is revised to read as follows:

A. Federal Reserve Bank of Minneapolis (Jacqueline G. King, Community Affairs Officer) 90 Hennepin Avenue, Minneapolis, Minnesota 55480-0291:

1. MVC; Prairie Petroleum Inc., and William Coleman, both of Denver, Colorado; Eugene Nicholas, Cando, North Dakota; Timothy Dodd, Ottertail, Minnesota; and Bradley Fay, Bismarck, North Dakota; Jeffrey Topp, Grace City, North Dakota; Janet Topp, Grace City, North Dakota; and Roger Kenner, Leeds, North Dakota; as a group acting in concert, to collectively acquire voting shares of BNCCORP, Inc., Bismarck, North Dakota, and thereby indirectly acquire voting shares of BNC National Bank, Glendale, Arizona.

Comments on this application must be received by August 28, 2012.

Board of Governors of the Federal Reserve System, August 16, 2012.
Margaret McCloskey Shanks,
Associate Secretary of the Board.

[FR Doc. 2012-20453 Filed 8-20-12; 8:45 am]

BILLING CODE 6210-01-P